DEPARTMENT OF COMMERCE

National Telecommunications and Information Administration

Docket No.: [060606155-6237-02]

Privacy Act of 1974: System of Records

AGENCY: National Telecommunications and Information Administration, U.S. Department of Commerce.

ACTION: Final Notice to delete a Privacy Act System of Records: COMMERCE/NTIA-1, “Radio Spectrum Management Career Development Program.”

SUMMARY: The National Telecommunications and Information Administration (NTIA) publishes this notice to announce the deletion of a Privacy Act System of Records entitled COMMERCE/NTIA-1, “Radio Spectrum Management Career Development Program.” NTIA no longer collects or maintains this system of records.

DATES: The system of records will be deleted on September 15, 2006.

FOR FURTHER INFORMATION CONTACT: Stacy Cheney, Attorney-Advisor, Office of the Chief Counsel, National Telecommunications and Information Administration, Room 4713, 14th Street and Constitution Avenue, NW., Washington, DC 20231.

SUPPLEMENTARY INFORMATION: On June 20, 2006, NTIA published a notice in the Federal Register requesting comments on the deletion of a Privacy Act System of Records entitled COMMERCE/NTIA-1, “Radio Spectrum Management Career Development Program.” NTIA no longer collects or maintains this system of records. No comments were received in response to the request for comments. By this notice, NTIA is deleting this system of records on September 15, 2006.

Dated: September 7, 2006.
Brenda Dolan,
Freedom of Information and Privacy Act Officer, Department of Commerce.

[FR Doc. E6-15185 Filed 9-14-06; 8:45 am]

BILLING CODE 3510-60-S